DEPARTMENT OF ENERGY

Federal Energy Regulatory Commission

Combined Notice of Filings # 2

September 18, 2007.

Take notice that the Commission received the following electric corporate filings:

Docket Numbers: EC07-133-000.

Applicants: Central Vermont Public Service Corp.; Green Mountain Power Corporation.

Description: Central Vermont Public Service Corp and Green Mountain Power Corp submit their joint application for approval of the anticipated purchase of certain securities of Vermont Transco, LLC.

Filed Date: 09/14/2007.

Accession Number: 20070918-0176.

Comment Date: 5 p.m. Eastern Time on Friday, October 5, 2007.

Take notice that the Commission received the following electric securities filings:

Docket Numbers: ES07-61-000.

Applicants: PacifiCorp.

Description: PacifiCorp Energy submits an application for an order to issue promissory notes and other evidences of unsecured short-term indebtedness, from time to time, in an aggregate principal amount of up to $1.5 billion etc.

Filed Date: 09/17/2007.

Accession Number: 20070918-0178.

Comment Date: 5 p.m. Eastern Time on Tuesday, October 9, 2007.

Docket Numbers: ES07-62-000.

Applicants: Southwestern Electric Power Company; Public Service Company of Oklahoma; Indiana Michigan Power Company; Kentucky Power Company; AEP GENERATING CO; Kingsport Power Company; Wheeling Power Company; AEP Texas North Company; Appalachian Power Company.

Description: Form 523—Request for Permission to Issue Securities for AEP Generating Company, et al.

Filed Date: 09/17/2007.

Accession Number: 20070917-5046.

Comment Date: 5 p.m. Eastern Time on Tuesday, October 9, 2007.

Take notice that the Commission received the following electric rate filings:

Docket Numbers: ER99-1435-014.

Applicants: Avista Corporation.

Description: Avista Corp submits First Revised Sheet 10 to FERC Electric Tariff, Sixth Revised Volume 9, effective 7/7/07.

Filed Date: 09/14/2007.

Accession Number: 20070918-0145.

Comment Date: 5 p.m. Eastern Time on Friday, October 5, 2007.

Docket Numbers: ER05-1178-012; ER05-1191-012.

Applicants: Gila River Power, L.P.; Union Power Partners, LP.

Description: Gila River Power, LP et al submits notice of non-material change in status re the upstream ownership structure.

Filed Date: 09/14/2007.

Accession Number: 20070918-0144.

Comment Date: 5 p.m. Eastern Time on Friday, October 5, 2007.

Docket Numbers: ER07-905-003.

Applicants: Sierra Pacific Resources Operating Company.

Description: The Nevada Companies submits Fifth Revised Sheet 126 et al to FERC Electric Tariff, Third Revised Volume 1, effective 7/13/07.

Filed Date: 09/14/2007.

Accession Number: 20070918-0146.

Comment Date: 5 p.m. Eastern Time on Friday, October 5, 2007.

Docket Numbers: ER07-1230-001.

Applicants: American Electric Power Service Corp.

Description: Ohio Power Co and Columbus Southern Power Co submit an amendment to the tenth revision to the Interconnection and Local Delivery Service Agreement.

Filed Date: 09/13/2007.

Accession Number: 20070917-0135.

Comment Date: 5 p.m. Eastern Time on Thursday, October 4, 2007.

Docket Numbers: ER07-1290-001.

Applicants: Mid-Continent Area Power Pool.

Description: Mid-Continent Area Power Pool submits an errata to their 8/16/07 filing of seventeen non-conforming agreements for reassignments of non-firm service under MAPP Schedule F.

Filed Date: 09/13/2007.

Accession Number: 20070917-0131.

Comment Date: 5 p.m. Eastern Time on Thursday, October 4, 2007.

Docket Numbers: ER07-1370-000.

Applicants: American Electric Power Service Corp.

Description: Ohio Power Company et al submits and requests acceptance of an eleventh revised Interconnection and Local Delivery Service Agreement with Buckeye Power Inc.

Filed Date: 09/13/2007.

Accession Number: 20070917-0136.

Comment Date: 5 p.m. Eastern Time on Thursday, October 4, 2007.

Docket Numbers: ER07-1372-000.

Applicants: Midwest Independent Transmission System Operator, Inc.

Description: Midwest Independent Transmission System Operator, Inc submits revisions and amendments to its electric tariff filing to reflect ancillary service markets.

Filed Date: 09/14/2007.

Accession Number: 20070917-0168.

Comment Date: 5 p.m. Eastern Time on Friday, October 5, 2007.

Docket Numbers: ER07-1377-000.

Applicants: Central Vermont Public Service Corp.

Description: Central Vermont Public Service Corporation submits revised sheets for its Schedule 21-CV under the ISO New England Inc open access transmission tariff.

Filed Date: 09/14/2007.

Accession Number: 20070918-0150.

Comment Date: 5 p.m. Eastern Time on Friday, October 5, 2007.

Docket Numbers: ER07-1378-000.

Applicants: Providence Heights Wind, LLC.

Description: Application for Providence Heights Wind LLC for order accepting initial market-based rate tariff, waiving regulations, and granting blanket approvals.

Filed Date: 09/14/2007.

Accession Number: 20070918-0151.

Comment Date: 5 p.m. Eastern Time on Friday, October 5, 2007.

Docket Numbers: ER07-1379-000.

Applicants: Central Vermont Public Service Corp.

Description: Central Vermont Public Service Corp submits a notice of termination and tariff sheet terminating it Power Sales Agreement with New Hampshire Electric Cooperative, Inc.

Filed Date: 09/14/2007.

Accession Number: 20070918-0140.

Comment Date: 5 p.m. Eastern Time on Friday, October 5, 2007.

Docket Numbers: ER07-1380-000.

Applicants: EPCOR Power Development, Inc.

Description: EPCOR Power Development, Inc submits a notice of cancellation of its market-based rate tariff, designated as FERC Electric Tariff, Original Volume 1.

Filed Date: 09/14/2007.

Accession Number: 20070918-0147.

Comment Date: 5 p.m. Eastern Time on Friday, October 5, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Acting Deputy Secretary.

[FR Doc. E7-18754 Filed 9-21-07; 8:45 am]

BILLING CODE 6717-01-P